DEPARTMENT OF COMMERCE

National Oceanic and Atmospheric Administration

50 CFR Part 648

[Docket No. 150903814-5999-02]

RIN 0648-XE679

Fisheries of the Northeastern United States; Summer Flounder Fishery; Quota Transfer

AGENCY: National Marine Fisheries Service (NMFS), National Oceanic and Atmospheric Administration (NOAA), Commerce.

ACTION: Temporary rule; quota transfer.

SUMMARY: NMFS announces that the State of North Carolina is transferring a portion of its 2016 commercial summer flounder quota to the Commonwealth of Virginia. These quota adjustments are necessary to comply with the Summer Flounder, Scup and Black Sea Bass Fishery Management Plan quota transfer provision. This announcement informs the public of the revised commercial quotas for Virginia and North Carolina.

DATES: Effective June 20, 2016, through December 31, 2016.

FOR FURTHER INFORMATION CONTACT: Elizabeth Scheimer, Fishery Management Specialist, (978) 281-9236.

SUPPLEMENTARY INFORMATION: Regulations governing the summer flounder fishery are found in 50 CFR 648.100 through 648.110. The regulations require annual specification of a commercial quota that is apportioned among the coastal states from Maine through North Carolina. The process to set the annual commercial quota and the percent allocated to each state are described in § 648.102.

The final rule implementing Amendment 5 to the Summer Flounder Fishery Management Plan, as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider the criteria in § 648.102(c)(2)(i)(A) through (C) in the evaluation of requests for quota transfers or combinations.

North Carolina is transferring 3,732 lb (1,693 kg) of summer flounder commercial quota to Virginia. This transfer was requested by North Carolina to repay landings by a North Carolina-permitted vessel that landed in Virginia under a safe harbor agreement.

The revised summer flounder quotas for calendar year 2016 are now: Virginia, 1,759,561 lb (798,123 kg); and North Carolina, 2,143,714 lb (972,372 kg) based on the initial quotas published in the 2016-2018 Summer Flounder, Scup and Black Sea Bass Specifications and previous 2016 quota transfers as referenced in Table 1.

Table 1—2016 Summer Flounder Quota Transfers
| 2016 Specifications Initial Quota | Transfer No. 1 | Transfer No. 2 | Transfer No. 3
Quota Transfer |  | NC to MA, RI, NJ, and VA | NC to NJ and MA | VA to MA.
Federal Register | 80 FR 80689 | 81 FR 12030 | 81 FR 22032 | 81 FR 24714.
Effective Date | January 1, 2016 | March 7, 2016 | April 13, 2016 | April 26, 2016.
Publication Date | December 28, 2015 | March 8, 2016 | April 14, 2016 | April 27, 2016.

Classification

This action is taken under 50 CFR part 648 and is exempt from review under Executive Order 12866.

Authority: 16 U.S.C. 1801 et seq.

Dated: June 16, 2016.
Emily H. Menashes,
Acting Director, Office of Sustainable Fisheries, National Marine Fisheries Service.

[FR Doc. 2016-14650 Filed 6-20-16; 8:45 am]

BILLING CODE 3510-22-P